CHEMICAL SAFETY AND HAZARD INVESTIGATION BOARD

Sunshine Act Meeting—September 25—6:30 p.m.

In connection with its investigation into the cause of a January 30, 2007, propane explosion at the Little General Store in Ghent, West Virginia, the United States Chemical Safety and Hazard Investigation Board (CSB) announces that it will convene a public meeting on September 25, 2008, starting at 6:30 p.m. in the Tamarack Conference Center Ballroom, One Tamarack Park, Beckley, WV 25801—Telephone # (304)-256-6843.

At the meeting CSB staff will present to the Board the results of their investigation into this incident. Key issues involved in the investigation concern emergency evacuation, hazardous materials incident training for firefighters, 911 Call Center preparations, propane company procedures, and propane technician training. This will be followed by a public comment period prior to a Board vote on the report.

On January 30, 2007, four people were killed and five others were seriously injured when propane vapors from a storage tank ignited and exploded at the Little General convenience store and gasoline station in Ghent, West Virginia. Propane was used as fuel inside the building. The explosion leveled the store, destroyed a responding ambulance, and damaged other nearby vehicles.

On the day of the incident, a propane technician was preparing to transfer liquid propane from an existing tank to a newly installed replacement tank. When the technician removed a plug from the existing tank's liquid withdrawal valve, liquid propane unexpectedly released and formed a vapor cloud. About 15 minutes after the release began, a 911 call was made. Shortly after, emergency responders and another propane technician arrived on scene. Little General employees closed the store but did not evacuate. Minutes after the emergency responders arrived, the propane ignited killing the two propane technicians and two emergency responders in the area of the tank, injuring four store employees inside the building and two other emergency responders outside.

Following the conclusion of the public comment period, the Board will consider whether to approve the final report and recommendations. All staff presentations are preliminary and are intended solely to allow the Board to consider in a public forum the issues and factors involved in this case. No factual analyses, conclusions or findings presented by staff should be considered final. Only after the Board has considered the final staff presentation, listened to the witnesses and the public comments and approved the staff report will there be an approved final record of this incident.

The meeting will be open to the public. Please notify CSB if a translator or interpreter is needed, at least 5 business days prior to the public meeting. For more information, please contact the Chemical Safety and Hazard Investigation Board at (202) 261-7600, or visit our Web site at: http://www.csb.gov.

Christopher W. Warner,
General Counsel.

[FR Doc. E8-20986 Filed 9-5-08; 4:15 pm]

BILLING CODE 6350-01-P